DEPARTMENT OF COMMERCE

National Oceanic and Atmospheric Administration

50 CFR Part 218

RIN 0648-BB14

Taking and Importing Marine Mammals: Taking Marine Mammals Incidental to U.S. Navy Operations of Surveillance Towed Array Sensor System Low Frequency Active Sonar

AGENCY: National Marine Fisheries Service (NMFS), National Oceanic and Atmospheric Administration (NOAA), Commerce.

ACTION: Proposed rule; extension of comment period.

SUMMARY: On January 6, 2012, the NMFS published its proposed regulations to govern the take of marine mammals, by harassment, incidental to conducting operations of Surveillance Towed Array Sensor System (SURTASS) Low Frequency Active (LFA) sonar in areas of the world's oceans (with the exception of Arctic and Antarctic waters and certain geographic restrictions), from August 16, 2012, through August 15, 2017.

The Federal Register notice indicated that written comments were due by February 6, 2012, which allowed 30 calendar days for public input. In response to a request from the Natural Resources Defense Council, NMFS has decided to extend the public comment period by 15 days, to February 21, 2012, which allows a total of 45 days for public input.

DATES: NMFS has extended the public comment period for this action from February 6, 2012, to February 21, 2012. NMFS must receive written comments and information no later than February 21, 2012.

ADDRESSES: You may submit comments, identified by 0648-BB14, by any one of the following methods:

• Electronic Submissions: Submit all electronic public comments via the Federal eRulemaking Portal: http://www.regulations.gov, using the Keyword or ID 0648-BB14.

• Hand delivery or mailing of paper, disk, or CD-ROM comments should be addressed to P. Michael Payne, Chief, Permits and Conservation Division, Office of Protected Resources, National Marine Fisheries Service, 1315 East-West Highway, Silver Spring, MD 20910.

Instructions: All comments received are a part of the public record and will generally be posted to http://www.regulations.gov without change. All Personal Identifying Information (for example, name, address, etc.) voluntarily submitted by the commenter may be publicly accessible. Do not submit Confidential Business Information or otherwise sensitive or protected information.

NMFS will accept anonymous comments (enter N/A in the required fields if you wish to remain anonymous). Attachments to electronic comments will be accepted in Microsoft Word, Excel, WordPerfect, or Adobe PDF file formats only. To help NMFS process and review comments more efficiently, please use only one method to submit comments.

FOR FURTHER INFORMATION CONTACT: Jeannine Cody, Office of Protected Resources, NMFS, (301) 427-8401.

SUPPLEMENTARY INFORMATION: NMFS refers the reader to the January 6, 2012, Federal Register notice (77 FR 842) for background information concerning the proposed regulations. The information in the notice of proposed rulemaking is not repeated here. For additional information regarding the Navy's associated draft Supplemental Environmental Impact Statement/Supplemental Overseas Environmental Impact Statement (DSEIS/SOEIS) for employment of SURTASS LFA sonar, please visit http://www.surtass-lfa-eis.com.

Dated: February 3, 2012.
Helen M. Golde,
Deputy Director, Office of Protected Resources, National Marine Fisheries Service.

[FR Doc. 2012-3051 Filed 2-8-12; 8:45 am]

BILLING CODE 3510-22-P